DEPARTMENT OF LABOR

29 CFR Part 1952

Occupational Safety and Health Administration

[Docket ID. OSHA 2014-0019]

RIN 1218-AC92

Arizona State Plan for Occupational Safety and Health

AGENCY: Occupational Safety and Health Administration, Labor.

ACTION: Reconsideration of final approval of state plan; withdrawal.

SUMMARY: OSHA is withdrawing its proposed reconsideration of the Arizona State Plan's final approval status.

DATES: July 26, 2019.

FOR FURTHER INFORMATION CONTACT:

For press inquiries: Francis Meilinger, OSHA Office of Communications, U.S. Department of Labor, Washington, DC 20210; telephone (202) 693-1999; email: meilinger.francis2@dol.gov.

For general and technical information: Douglas J. Kalinowski, Director, OSHA Directorate of Cooperative and State Programs, U.S. Department of Labor, Washington, DC 20210; telephone: (202) 693-2200; email: kalinowski.doug@dol.gov.

SUPPLEMENTARY INFORMATION: On August 21, 2014, OSHA published a Federal Register document proposing to reject Arizona's residential construction fall protection statute enacted by Arizona's state legislature (formerly published as Arizona Revised Statute (A.R.S.) 23-492), and to reconsider the Arizona State Plan's final approval pursuant to 29 CFR 1953.6(e) and 29 CFR 1902.47 (79 FR 49465). OSHA based that proposal on a finding that Arizona's requirements for residential construction fall protection were not at least as effective as OSHA's federal standard, as required by the Occupational Safety and Health Act (29 U.S.C. 667(c)(2)).

On February 6, 2015, OSHA published a Federal Register document responding to comments received in response to its proposed rejection document, and announcing OSHA's final decision to reject the Arizona State Plan's residential construction fall protection statute (80 FR 6652). However, SB 1307 included a conditional repeal provision. Under this provision, if OSHA rejected the state statute and published that decision in the Federal Register pursuant to 29 CFR 1902.23, then A.R.S. 23-492 would be repealed by operation of law (SB 1307 Sec. 7). In response to this provision, OSHA deferred its decision on the simultaneously proposed action of reconsidering the State Plan's final approval, to allow for Arizona's repeal of the rejected statute to take effect, and to allow for Arizona's subsequent enforcement of a standard at least as effective as OSHA's standard.

Since that time, Arizona has adopted OSHA's residential construction fall protection standard, 29 CFR part 1926, subpart M. Federal OSHA has monitored this issue closely and finds that Arizona has also successfully implemented this standard. Accordingly, OSHA is withdrawing its proposal to reconsider the Arizona State Plan's final approval status.

Authority and Signature

Loren Sweatt, Acting Assistant Secretary of Labor for Occupational Safety and Health, directed the preparation of this document under the following authorities: Section 18 of the Occupational Safety and Health Act of 1970 (29 U.S.C. 667), Secretary of Labor's Order No. 1-2012 (77 FR 3912), and 29 CFR parts 1902 and 1953.

Signed in Washington, DC, on July 17, 2019.
Loren Sweatt,
Acting Assistant Secretary of Labor for Occupational Safety and Health.

[FR Doc. 2019-15850 Filed 7-25-19; 8:45 am]

BILLING CODE 4510-26-P